DEPARTMENT OF THE INTERIOR

Fish and Wildlife Service

[FWS-R9-IA-2009-N161; 96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species. The Endangered Species Act requires that we invite public comment on these permit applications.

DATES: Written data, comments or requests must be received by September 10, 2009

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: Archie Carr Center for Sea Turtle Research, University of Florida, Gainesville, FL, PRT-724540

The applicant requests an amendment to an existing permit to import biological samples collected from captive-bred green sea turtles (Chelonia mydas) from the Cayman Turtle Farm, Cayman Islands, for the purpose of scientific research. Samples are to be collected from live or salvaged specimens. This notification covers activities conducted by the applicant over the remainder of the 5-year period of the permit.

Applicant: University of California, Santa Cruz, CA, PRT-215732

The applicant requests a permit to acquire from Coriell Institute of Medical Research, Camden, NJ, in interstate commerce fibroblast cell line cultures from gorillas (Gorilla gorilla) and orangutan (Pongo abelli) for the purpose of scientific research.

The following applicants request a permit to import the sport-hunted trophy of one male bontebok (Damaliscus pygargus pygargus) culled from a captive herd maintained under the management program of the Republic of South Africa, for the purpose of enhancement of the survival of the species.

Applicant: Vance D. Coffman, Pebble Beach, CA, PRT-219600

Applicant: Clint Chamberlain, Yukon, OK, PRT-219627

Applicant: Thomas A. Fraley, Newburg, MO, PRT-219683

Applicant: Eric L. Nysse, New Holstein, WI, PRT-219947

Applicant: Gregory G. Rodriguez, Sugar Land, TX, PRT-220498

Applicant: Randall R. Foster, Midland, TX, PRT-220517

Applicant: James M. Beier, Rochester, MN, PRT-220669

Applicant: James R. Boyd, Rapid City, SD, PRT-220718

Applicant: Robert M. Bensinger, Akron, OH, PRT-220877

Dated: July 31, 2009
Lisa J. Lierheimer
Senior Permit Biologist, Branch of Permits, Division of Management Authority

[FR Doc. E9-19221 Filed 8-10-09; 8:45 am]

BILLING CODE 4310-55-S